DEPARTMENT OF COMMERCE

National Oceanic and Atmospheric Administration

[RTID 0648-XA067]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a 4-day meeting to consider actions affecting the Gulf of Mexico fisheries in the exclusive economic zone (EEZ).

DATES: The meeting will convene Monday, March 30 through Thursday, April 2, 2020; 8:30 a.m. until 4 p.m.

ADDRESSES:

Meeting address: The meeting will take place at The Lodge at Gulf State Park, 21196 East Beach Boulevard, Gulf Shores, AL 36542; telephone: (251) 540-4000.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, March 30, 2020; 8:30 a.m.-5:30 p.m.

The meeting will begin in a CLOSED SESSION of the FULL COUNCIL to select members to the Coastal Migratory Pelagics and Red Drum Advisory Panels; and, selection of the 2019 Law Enforcement Officer/Team of the Year.

The meeting will open to the general public mid-morning with the Gulf SEDAR Committee reviewing the Gulf of Mexico (GOM) SEDAR Schedule and discussing interim analyses on Timing and Use for Management. Ecosystem Committee will give a summary report from the Ecosystem Technical Committee meeting and an update on the Fishery Ecosystem Management Plan. Following lunch, Sustainable Fisheries Committee will have a presentation on Marine Mammal Depredation; review Public Hearing Draft Amendment Reef Fish 48/Red Drum 5: Status Determination Criteria and Optimum Yield for Reef Fish and Red Drum and Framework Action for Modification of Fishing Access in Eastern GOM Marine Protected Areas. The Committee will also discuss any allocation issues.

National Marine Fisheries Service (NMFS) will hold a Question and Answer session immediately following the Sustainable Fisheries Committee.

Tuesday, March 31, 2020; 8:30 a.m.-5:30 p.m.

The Law Enforcement Committee will receive a summary report from the Law Enforcement Technical Committee (LETC) meeting and a presentation on the 2019 Report to Congress on Illegal, Unreported, and Unregulated (IUU) Fishing. The Reef Fish Committee will review Reef Fish and CMP Landings, Draft Amendments 36B and 36C modifications to commercial IFQ Programs and Presentations, Draft Amendment 53: Red Grouper Catch Limits and Sector Allocations, Draft Framework Action to Modify the GOM Lane Snapper Annual Catch Limit; and, review any remaining items from the March 2020 SSC Meeting summary.

Wednesday, April 1, 2020; 8:30 a.m.-5:30 p.m.

The Shrimp Management Committee will review the updated Brown, Pink, and White Shrimp Stock Assessments, Gulf Shrimp Fishery Effort and Landings, Preliminary 2019 Royal Red Shrimp Index, and Biological Review of the Texas Closure. The Committee will also discuss Shrimp FMP Objectives; and, any remining items from the Shrimp Advisory Panel meeting. Habitat Protection and Restoration Committee will receive a summary report from the August 2019 Council Coordinating Committee Habitat Subcommittee; and, an update on Essential Fish Habitat Amendment.

Full Council will convene late morning with a Call to Order, Announcements, and Introductions; Adoption of Agenda and Approval of Minutes. Council will review Exempted Fishing Permit (EFP) Applications and public comments (if any); and, receive presentations on Deepwater Horizon Open Ocean Fish Restoration, Alabama Law Enforcement Efforts and an update on Southeast For-Hire Integrated Electronic Reporting (SEFHIER). The Council will hold public comment testimony beginning at 2 p.m. until 5:30 p.m. for open testimony on other fishery issues or concerns. Anyone wishing to speak during public comment testimony should sign in at the registration station located at the entrance of the meeting room.

Thursday, April 2, 2020; 8:30 a.m.-4 p.m.

The Council will receive reports from the following management committees: Gulf SEDAR, Ecosystem, Sustainable Fisheries, Law Enforcement, Shrimp, Habitat Protection and Restoration, and Reef Fish. The Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; Department of State.

Lastly, the Council will discuss Other Business items.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: March 3, 2020.
Tracey L. Thompson,
Acting Deputy Director, Office of Sustainable Fisheries, National Marine Fisheries Service.

[FR Doc. 2020-04644 Filed 3-5-20; 8:45 am]

BILLING CODE 3510-22-P